DEPARTMENT OF JUSTICE

Antitrust Division

Notice Pursuant to the National Cooperative Research and Production Act of 1993—The Open Group, L.L.C.

Notice is hereby given that, on May 24, 2019, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Aljouf University, Sakaka, SAUDI ARABIA; Altus Well Experts Inc., Katy, TX; Anadarko Petroleum Corporation, The Woodlands, TX; Area-I Inc., Kennesaw, GA; Ascendant Engineering Solutions, Austin, TX; Asia eHealth Information Network, Kowloon, HONG KONG-PEOPLE'S REPUBLIC OF CHINA; Beyond Limits, Inc., Glendale, CA; CGG Services (S) Inc., Houston, TX; CODESYS Holding GmbH, Kempton, GERMANY; Cognite AS, Lyssaker, NORWAY; DAWAN, Nantes, FRANCE; Debswana Diamond Company (Pty) Ltd., Gaborone, BOTSWANA; FiberQA LLC, Old Lyme, CT; Google LLC, Mountain View, CA; Halliburton Corporation, Houston, TX; Hess Corporation, Houston, TX; Hitachi Vantara, Santa Clara, CA; IHS Global Inc., Houston, TX; ING Group NV, Amsterdam, THE NETHERLANDS; InovaPrime, Serviços em Tecnologias de Informação, Lda., Lisbon, PORTUGAL; InProgress sp. z.o.o., Krakow, POLAND; Integrated Solutions for Systems, Auburn, AL; KADME AS, Stavanger, NORWAY; Katalyst Data Management LLC, Houston, TX; LCR Embedded Systems, Jeffersonville, PA; LeanIX GmbH, Bonn, GERMANY; Marathon Oil Corporation, Houston, TX; Pandioni Energy AS, Oslo, NORWAY; Real Time Automation Inc., Pewaukee, WI; Richfit Information Technology Co. Ltd., Beijing, PEOPLE'S REPUBLIC OF CHINA; Samson Aktieneegesellschaft, Frankfurt, GERMANY; Schlumberger Oilfield UK Plc, Gatwick, UNITED KINGDOM; SRC, Inc., N Syracuse, NY; Star Lab Corp., Huntsville, AL; Target Energy Solutions, Ltd., Woking, UNITED KINGDOM; TechnipFMC plc, Houston, TX; TOGETHER Business & Consulting S.r.l., Pilar, ARGENTINA; Troika International Ltd., Turnbridge, UNITED KINGDOM; WellLogData, Houston, TX; and Ximiq AG, Solothurn, SWITZERLAND, have been added as parties to this venture.

Also, Action Research Foundation, Bangalore, INDIA; Avancier Limited, New Malden, UNITED KINGDOM; BP Gurus, Mexico City, MEXICO; Enterprise Wise LLC, Hoschton, GA; Eon Consulting (Pty) Ltd., Midrand, SOUTH AFRICA; HiSolutions, Berlin, GERMANY; PricewaterhouseCoopers LLP, Gauteng, SOUTH AFRICA; Procept Associates Ltd., Toronto, CANADA; QubeStation, Inc., Chantilly, VA; Tieturi OY, Helsinki, FINLAND; WellAware, San Antonio, TX; and Westbury Software, Amsterdam, THE NETHERLANDS, have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on March 4, 2019. A notice was published in the Federal Register pursuant to Section 6(b) of the Act on April 4, 2019 (84 FR 13318).

Suzanne Morris,
Chief, Premerger and Division Statistics Unit, Antitrust Division.

[FR Doc. 2019-12648 Filed 6-14-19; 8:45 am]

BILLING CODE 4410-11-P